DEPARTMENT OF COMMERCE

[C-533-878]

Stainless Steel Flanges From India: Final Results of Countervailing Duty Administrative Review; 2019

AGENCY: Enforcement and Compliance, International Trade Administration, U.S. Department of Commerce.

SUMMARY: The Department of Commerce (Commerce) finds countervailable subsidies are being provided to producers and exporters of stainless steel flanges from India during the period of review, January 1, 2019, through December 31, 2019.

DATES: Applicable May 9, 2022.

FOR FURTHER INFORMATION CONTACT: Rachel Greenberg or Eliza Siordia, AD/CVD Operations, Office V, Enforcement and Compliance, International Trade Administration, U.S. Department of Commerce, 1401 Constitution Avenue NW, Washington, DC 20230; telephone: (202) 482-1110 or (202) 482-3878, respectively.

SUPPLEMENTARY INFORMATION:

Background

Commerce published the Preliminary Results on November 4, 2021.¹ On February 7, 2022, Commerce extended the deadline for the final results of this review until May 3, 2022.² For a complete description of the events that occurred since the Preliminary Results, see the Issues and Decision Memorandum.³

¹ See Stainless Steel Flanges from India: Preliminary Results of Countervailing Duty Administrative Review; 2019, 86 FR 60795 (November 4, 2021) (Preliminary Results), and accompanying Preliminary Decision Memorandum.

² See Memorandum, “Stainless Steel Flanges from India: Extension of Deadline for Final Results of Countervailing Duty Administrative Review, 2019,” dated February 7, 2022.

³ See Memorandum, “Issues and Decision Memorandum for the Final Results of the Administrative Review of the Countervailing Duty Order on Stainless Steel Flanges from India; 2019,” dated concurrently with, and hereby adopted by, this notice (Issues and Decision Memorandum).

Scope of the Order ⁴

⁴ See Stainless Steel Flanges from India: Countervailing Duty Order, 83 FR 50336 (October 5, 2018) (Order).

The merchandise covered by the Order is stainless steel flanges from India. For a complete description of the scope of the order, see the Issues and Decision Memorandum.

Analysis of Comments Received

All issues raised in interested parties' briefs are addressed in the Issues and Decision Memorandum. A list of the issues raised by interested parties and to which we responded in the Issues and Decision Memorandum is provided in Appendix I to this notice. The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

Changes Since the Preliminary Results

After evaluating the comments received from interested parties and record information, we have made no changes to the net subsidy rates calculated for Chandan Steel Limited (Chandan) and Kisaan Die Tech Pvt Ltd. (Kisaan). For a discussion of these comments, see the Issues and Decision Memorandum.

Methodology

Commerce is conducting this review in accordance with section 751(a)(l)(A) of the Tariff Act of 1930, as amended (the Act). For each of the subsidy programs found countervailable, we find that there is a subsidy, i.e., a financial contribution from a government or public entity that gives rise to a benefit to the recipient, and the subsidy is specific.⁵ For a full description of the methodology underlying our conclusions, see the Issues and Decision Memorandum.

⁵ See sections 771(5)(B) and (D) of the Act regarding financial contribution; section 771(5)(E) of the Act regarding benefit; and section 771(5A) of the Act regarding specificity.

Companies Not Selected for Individual Review

For the companies not selected for individual review, because the rates calculated for Chandan and Kisaan are above de minimis and not based entirely on facts available, we applied a subsidy rate based on the weighted-average of the subsidy rates calculated for Chandan and Kisaan using publicly ranged sales data submitted by the respondents.⁶ We have made no changes to the subsidy rate calculated for companies not selected for individual review.

⁶ See Memorandum, “Calculation of Subsidy Rate for Non-Selected Companies Under Review,” dated October 29, 2021.

Final Results of Administrative Review

In accordance with section 751(a)(1)(A) of the Act and 19 CFR 351.221(b)(5), we determine the total estimated net countervailable subsidy rates for the period January 1, 2019, through December 31, 2019, to be as follows:

Company | Subsidy rate (percent ad valorem)
Chandan Steel Limited | 5.51
Kisaan Die Tech Pvt Ltd | 5.28
Non-Selected Companies Under Review ⁷ | 5.49

Disclosure

⁷ See Appendix II for a list of the companies not selected for individual examination.

Normally, Commerce discloses to interested parties the calculations performed in connection with final results within five days of any public announcement or, if there is no public announcement, within five days of the date of publication of the notice of final determination in the Federal Register, in accordance with 19 CFR 351.224(b). However, because there are no changes from the Preliminary Results, there are no new calculations to disclose.

Assessment Rate

Consistent with section 751(a)(2)(C) of the Act, upon issuance of the final results, Commerce shall determine, and U.S. Customs and Border Protection (CBP) shall assess, countervailing duties on all appropriate entries covered by this review. Commerce intends to issue appropriate assessment instructions to CBP no earlier than 35 days after publication of these final results. If a timely summons is filed at the U.S. Court of International Trade, the assessment instructions will direct CBP not to liquidate relevant entries until the time for parties to file a request for a statutory injunction has expired (i.e., within 90 days of publication).

Cash Deposit Requirements

Pursuant to section 751(a)(1) of the Act, Commerce intends to instruct CBP to collect cash deposits of estimated countervailing duties in the amounts indicated above with regard to shipments of subject merchandise entered, or withdrawn from warehouse, for consumption on or after the date of publication of the final results of this review. For all non-reviewed firms, CBP will continue to collect cash deposits of estimated countervailing duties at the most recent company-specific or all-others rate applicable to the company, as appropriate. These cash deposit instructions, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

These final results are issued and published in accordance with sections 751(a)(1) and 777(i)(1) of the Act and 19 CFR 351.221(b)(5).

Dated: May 3, 2022.
Lisa W. Wang,
Assistant Secretary for Enforcement and Compliance.

Appendix I

List of Topics Discussed in the Issues and Decision Memorandum

I. Summary

II. Background

III. Scope of the Order

IV. Subsidies Valuation Information

V. Analysis of the Programs

VI. Discussion of the Issues

Comment 1: Whether the State Government of Gujarat (SGOG) Preferential Water Rates Under the Gujarat Industrial Development Corporation (GIDC) Water Supply Regulation of 1991 Program Provides a Benefit

Comment 2: Whether to Apply Adverse Facts Available (AFA) for the SGOG's Electricity Duty Exemption (EDE) Program

Comment 3: Whether Commerce Should Apply Total AFA to Kisaan

VII. Recommendation

Appendix II—List of Companies Not Selected for Individual Examination

Arien Global

Arien Metals Private Limited

Armstrong International Pvt. Ltd.

Avini Metal Limited

Balkrishna Steel Forge Pvt. Ltd.

Bebitz Flanges Works Pvt. Ltd.

Bee Gee Enterprises

BFN Forgings Private Limited

Bsl Freight Solutions Pvt., Ltd.

CD Industries (Prop. Kisaan Engineering Works Pvt. Ltd).

Cipriani Harrison Valves Pvt. Ltd.

CTL Logistics (India) Pvt. Ltd.

Dongguan Good Luck Furniture Industrial Co., Ltd.

DSV Air and Sea Pvt. Ltd.

DSV Logistics

Echjay Forgings Pvt. Ltd.

Fivebros Forgings Pvt. Ltd.

Fluid Controls Pvt. Ltd.

Geodis Oversea Pvt., Ltd.

Globelink WW India Pvt., Ltd.

Good Luck Engineering Co.

Goodluck India Ltd.

Hilton Metal Forging Limited

Jai Auto Pvt. Ltd.

Jay Jagdamba Limited

Jay Jagdamba Profile Private Limited

Jay Jagdamba Forgings Private Limited

Katariya Steel Distributors

Kunj Forgings Pvt. Ltd.

Montane Shipping Pvt., Ltd.

Noble Shipping Pvt. Ltd.

Paramount Forge

Pashupati Ispat Pvt. Ltd.

Pashupati Tradex Pvt., Ltd.

Peekay Steel Castings Pvt. Ltd.

Pradeep Metals Ltd.

R D Forge Pvt., Ltd.

Rolex Fittings India Pvt. Ltd.

Rollwell Forge Pvt. Ltd.

Safewater Lines (I) Pvt. Ltd.

Saini Flange Pvt. Ltd.

SAR Transport Systems

Shilpan Steelcast Pvt. Ltd.

Shree Jay Jagdamba Flanges Private Limited

Teamglobal Logistics Pvt. Ltd.

Technical Products

Technical Products Corporation

Technocraft Industries India Ltd.

Transworld Enterprises

Transworld Global Logistics Solutions (India) Pvt. Ltd.

Transworld Group

VEEYES Engineering Pvt. Ltd.

Viraj Profiles Ltd.

Vishal Shipping Agencies Pvt. Ltd.

Yusen Logistics (India) Pvt. Ltd.

[FR Doc. 2022-09910 Filed 5-6-22; 8:45 am]

BILLING CODE 3510-DS-P